DEPARTMENT OF DEFENSE

Office of the Secretary

[DoD-2006-OS-0030]

Privacy Act of 1974; System of Records

AGENCY: Department of Defense.

ACTION: Notice to delete a System of Records.

SUMMARY: The Defense Threat Reduction Agency is deleting a system of records notice from its existing inventory of records systems subject to the Privacy Act of 1974, (5 U.S.C. 552a), as amended.

DATES: This proposed action will be effective without further notice on March 5, 2008 unless comments are received which result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Office of the Secretary of Defense systems of records notices subject to the Privacy Act of 1974, (5 U.S.C. 552a), as amended, have been published in the Federal Register and are available from the address above.

Dated: January 30, 2008.
L.M. Bynum,
Alternate OSD Federal Register Liaison Officer, Department of Defense.

Deletion

HDTRA 004

System name:

Nuclear Weapons Accident Exercise Personnel Radiation Exposure Records (August 24, 2005, 70 FR 45592).

Reason:

The Defense Threat Reduction Agency does not have a mission requirement to maintain these records. However, these records are maintained under the DoD System of Records F044 AF SG O, United States Air Force Master Radiation Exposure Registry. Published in the Federal Register on November 18, 2003, in Volume 68, Page Number 65042.

[FR Doc. E8-1940 Filed 2-1-08; 8:45 am]

BILLING CODE 5001-06-P